DEPARTMENT OF ENERGY

Federal Energy Regulatory Commission

Combined Notice of Filings #1

Take notice that the Commission received the following exempt wholesale generator filings:

Docket Numbers: EG11-87-000.

Applicants: Sherbino II Wind Farm LLC.

Description: Notice of Self-Certification of Exempt Wholesale Generator Status of Sherbino II Wind Farm LLC.

Filed Date: 05/26/2011.

Accession Number: 20110526-5128.

Comment Date: 5 p.m. Eastern Time on Thursday, June 16, 2011.

Take notice that the Commission received the following electric rate filings:

Docket Numbers: ER10-1790-001; ER11-2029-002; ER10-1821-002; ER10-2598-001.

Applicants: BP Energy Company, Rolling Thunder I Power Partners, LLC, Goshen Phase II LLC, Cedar Creek II, LLC.

Description: Supplemental Information Regarding Updated Market Power Analysis.

Filed Date: 05/26/2011.

Accession Number: 20110526-5151.

Comment Date: 5 p.m. Eastern Time on Thursday, June 16, 2011.

Docket Numbers: ER11-3028-002.

Applicants: BBPC, LLC.

Description: BBPC, LLC submits tariff filing per 35.17(b): BBPC LLC Second Substitute MBR Tariff to be effective 5/16/2011.

Filed Date: 05/25/2011.

Accession Number: 20110525-5037.

Comment Date: 5 p.m. Eastern Time on Wednesday, June 15, 2011.

Docket Numbers: ER11-3376-001.

Applicants: North Hurlburt Wind, LLC.

Description: North Hurlburt Wind, LLC submits tariff filing per 35.17(b): NH Amendment to MBR to Include Docket Number to be effective 6/17/2011.

Filed Date: 05/26/2011.

Accession Number: 20110526-5075.

Comment Date: 5 p.m. Eastern Time on Thursday, June 16, 2011.

Docket Numbers: ER11-3377-001.

Applicants: Horseshoe Bend Wind, LLC.

Description: Horseshoe Bend Wind, LLC submits tariff filing per 35.17(b): HB Amendment to MBR to Include Docket Number to be effective 6/17/2011.

Filed Date: 05/26/2011.

Accession Number: 20110526-5069.

Comment Date: 5 p.m. Eastern Time on Thursday, June 16, 2011.

Docket Numbers: ER11-3378-001.

Applicants: South Hurlburt Wind, LLC.

Description: South Hurlburt Wind, LLC submits tariff filing per 35.17(b): SH Amendment to MBR to Include Docket Number to be effective 6/17/2011.

Filed Date: 05/26/2011.

Accession Number: 20110526-5078.

Comment Date: 5 p.m. Eastern Time on Thursday, June 16, 2011.

Docket Numbers: ER11-3639-000.

Applicants: PJM Interconnection, L.L.C.

Description: PJM Interconnection, L.L.C. submits tariff filing per 35.13(a)(2)(iii: Revisions to the PJM Tariff Schedule 9—MMU Funding to be effective 8/1/2011.

Filed Date: 05/25/2011.

Accession Number: 20110525-5078.

Comment Date: 5 p.m. Eastern Time on Wednesday, June 15, 2011.

Docket Numbers: ER11-3640-000.

Applicants: Midwest Independent Transmission System, International Transmission Company.

Description: Midwest Independent Transmission System Operator, Inc. submits tariff filing per 35.13(a)(2)(iii: 05-25-11 ITC Attachment GG revisions to be effective 7/25/2011.

Filed Date: 05/25/2011.

Accession Number: 20110525-5088.

Comment Date: 5 p.m. Eastern Time on Wednesday, June 15, 2011.

Docket Numbers: ER11-3642-000.

Applicants: Tanner Street Generation, LLC.

Description: Tanner Street Generation, LLC submits tariff filing per 35.12: Market-Based Rate Tariff to be effective 5/26/2011.

Filed Date: 05/25/2011.

Accession Number: 20110525-5089.

Comment Date: 5 p.m. Eastern Time on Wednesday, June 15, 2011.

Docket Numbers: ER11-3643-000.

Applicants: PacifiCorp.

Description: PacifiCorp submits tariff filing per 35.13(a)(1): OATT Formula Rate to be effective 7/25/2011.

Filed Date: 05/26/2011.

Accession Number: 20110526-5002.

Comment Date: 5 p.m. Eastern Time on Thursday, June 16, 2011.

Docket Numbers: ER11-3644-000.

Applicants: Project Orange Associates, LLC.

Description: Project Orange Associates, LLC Notice of Cancellation of FERC Electric Tariff to be effective May 31, 2011.

Filed Date: 05/25/2011.

Accession Number: 20110525-5112.

Comment Date: 5 p.m. Eastern Time on Wednesday, June 15, 2011.

Docket Numbers: ER11-3645-000.

Applicants: PJM Interconnection, L.L.C.

Description: PJM Interconnection, L.L.C. submits tariff filing per 35.13(a)(2)(iii: Queue No. W2-090; Original Service Agreement No. 2922 to be effective 5/2/2011.

Filed Date: 05/26/2011.

Accession Number: 20110526-5061.

Comment Date: 5 p.m. Eastern Time on Thursday, June 16, 2011.

Docket Numbers: ER11-3646-000.

Applicants: PJM Interconnection, L.L.C.

Description: PJM Interconnection, L.L.C. submits tariff filing per 35.13(a)(2)(iii: Queue No. W1-124; Original Service Agreement No. 2926 to be effective 5/10/2011.

Filed Date: 05/26/2011.

Accession Number: 20110526-5062.

Comment Date: 5 p.m. Eastern Time on Thursday, June 16, 2011.

Docket Numbers: ER11-3647-000.

Applicants: PJM Interconnection, L.L.C.

Description: PJM Interconnection, L.L.C. submits tariff filing per 35.13(a)(2)(iii: Queue No. W2-084; Original Service Agreement No. 2927 to be effective 5/10/2011.

Filed Date: 05/26/2011.

Accession Number: 20110526-5063.

Comment Date: 5 p.m. Eastern Time on Thursday, June 16, 2011.

Docket Numbers: ER11-3648-000.

Applicants: PJM Interconnection, L.L.C.

Description: PJM Interconnection, L.L.C. submits tariff filing per 35.13(a)(2)(iii: Queue No. W2-085; Original Service Agreement No. 2928 to be effective 5/10/2011.

Filed Date: 05/26/2011.

Accession Number: 20110526-5064.

Comment Date: 5 p.m. Eastern Time on Thursday, June 16, 2011.

Docket Numbers: ER11-3649-000.

Applicants: Avista Corporation.

Description: Avista Corporation submits tariff filing per 35.12: Service Agreement T1087—E and P Agreement to be effective 5/27/2011.

Filed Date: 05/26/2011.

Accession Number: 20110526-5135.

Comment Date: 5 p.m. Eastern Time on Thursday, June 16, 2011.

Take notice that the Commission received the following electric securities filings:

Docket Numbers: ES11-35-000.

Applicants: Wolverine Power Supply Cooperative, Inc.

Description: Application for Authorization to Assume Obligations with Respect to Securities Under Section 204 of the Federal Power Act of Wolverine Power Supply Cooperative, Inc.

Filed Date: 05/26/2011.

Accession Number: 20110526-5129.

Comment Date: 5 p.m. Eastern Time on Thursday, June 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Dated: May 26, 2011.
Nathaniel J. Davis, Sr.,
Deputy Secretary.

[FR Doc. 2011-13769 Filed 6-2-11; 8:45 am]

BILLING CODE 6717-01-P